NUCLEAR REGULATORY COMMISSION

Sunshine Act Meeting

DATE: Weeks of July 2, 9, 16, 23, 30, August 6, 2001.

PLACE: Commissioners' Conference Room, 11555 Rockville Pike, Rockville, Maryland.

STATUS: Public and Closed.

MATTERS TO BE CONSIDERED:

Week of July 2, 2001

There are no meetings scheduled for the Week of July 2, 2001.

Week of July 9, 2001—Tentative

Monday, July 9, 2001

1:25 p.m.

Affirmation Session (Public Meeting (If needed)

Week of July 16, 2001—Tentative

Thursday, July 19, 2001

9:25 a.m.

Affirmation Session (Public Meeting (If needed)

9:30 a.m.

Briefing on Results of Agency Action Review Meeting—Reactors (Public Meeting) (Contact: Ron Frahm, 301-415-2986)

1:30 p.m.

Briefing on Readiness for New Plant Applications and Construction (Public Meeting) (Contact: Nanette Gilles, 301-415-1180)

Friday, July 20, 2001

9:30 a.m.

Briefing on Results of Reactor Oversight Process Initial Implementation (Public Meeting) (Contact: Tim Frye, 301-415-1287)

1:00 p.m.

Briefing on Risk-Informing Special Treatment Requirements (Public Meeting) (Contact: John Nakoski, 301-415-1278)

Week of July 23, 2001—Tentative

Wednesday, July 25, 2001

9:25 a.m.

Affirmation Session (Public Meeting) (If needed)

Week of July 30, 2001—Tentative

Tuesday, July 31, 2001

1:25 p.m.

Affirmation Session (Public Meeting (If needed)

Week of August 6, 2001—Tentative

There are no meetings scheduled for the Week of August 6, 2001.

* The schedule for commission meetings is subject to change on short notice. To verify the status of meetings call (recording)—(301) 415-1292. Contact person for more information: David Louis Gamberoni (301) 415-1651.

ADDITIONAL INFORMATION: By a vote of 4-0 on June 22, the Commission determined pursuant to U.S.C. 552b(e) and § 9.107(a) of the Commission's rules that “Discussion of Intragovernmental Issues (Closed—Ex. 1 and 9)” be held on June 22, and on less than one week's notice to the public.

By a vote of 5-0 on June 26, the Commission determined pursuant to U.S.C. 552b(e) and § 9.107(a) of the Commission's rules that “Affirmation of Private Fuel Storage (Independent Spent Fuel Storage Installation) Docket No. 72-22; Review of LBP-01-09” be held on June 27, and on less than one week's notice to the public.

The NRC Commission Meeting Schedule can be found on the Internet at: http://www.nrc.gov/SECY/smj/schedule.htm

This notice is distributed by mail to several hundred subscribers; if you no longer wish to receive it, or would like to be added to the distribution, please contact the Office of the Secretary, Washington, D.C. 20555 (301-415-1969). In addition, distribution of this meeting notice over the Internet system is available. If you are interested in receiving this Commission meeting schedule electronically, please send an electronic message to dkw@nrc.gov.

Dated: June 28, 2001.
David Louis Gamberoni,
Technical Coordinator, Office of the Secretary.

[FR Doc. 01-16765 Filed 6-29-01; 8:45 am]

BILLING CODE 7590-01-M